DEPARTMENT OF DEFENSE

Department of the Air Force

Record of Decision for the Modernization and Enhancement of Ranges, Airspace, and Training Areas in the Joint Pacific Alaska Range Complex in Alaska

ACTION: Notice of availability (NOA).

SUMMARY: The Environmental Impact Statement (EIS) for the Modernization and Enhancement of Ranges, Airspace, and Training Areas in the Joint Pacific Alaska Range Complex (JPARC) in Alaska Record of Decision (ROD) was signed by the United States Army (Army) on 30 July 2013 and the United States Air Force (Air Force) on 6 August 2013.

The ROD states the Air Force and Army decision on the six definitive proposals analyzed in the EIS. These decisions include (1) Fox 3 Military Operating Area (MOA) Expansion and Paxon MOA Addition (Air Force), (2) Realistic Live Ordnance Delivery (Air Force), (3) Battle Area Complex (BAX) Restricted Area Addition (Army), (4) Expand Restricted Area R-2205, including the Digital Multi-Purpose Training Range (DMPTR) (Army), (5) Night Joint Training (Air Force), and (6) Unmanned Aerial Vehicle Access (Army).

The decision was based on relevant factors discussed in the EIS, including technical considerations, public review and Tribal and agency input. The Final EIS was made available to the public on June 28, 2013 through a NOA in the Federal Register (Volume 78, Number 125, Page 38975) with a wait period that ended on July 29, 2013. The ROD documents only the six definitive decisions of the Air Force and Army with respect to the proposed Air Force and Army actions analyzed in the EIS. Decision on programmatic actions analyzed in the EIS could be made at a future date.

Authority: This NOA is published pursuant to the regulations (40 CFR Part 1506.6) implementing the provisions of the NEPA of 1969 (42 USC. 4321, et seq.) and the Air Force's Environmental Impact Analysis Process (EIAP) (32 CFR 989.21(b) and 989.24(b)(7)) and the Army's Environmental Analysis of Army Actions (32 CFR 651.26 and 651.45(j)(vi)(3)).

The ROD will be available for download at http://www.jber.af.mil/jparc.asp.

FOR FURTHER INFORMATION CONTACT: Captain Tania Bryan, Alaskan Command Public Affairs, 9480 Pease Avenue, Suite 120, JBER, AK 99506, (907) 552-2341, ALCOM.J08@elmendorf.af.mil.

Henry Williams Jr,
Acting Air Force Federal Register Officer.

[FR Doc. 2013-20232 Filed 8-19-13; 8:45 am]

BILLING CODE 5001-10-P